DEPARTMENT OF TRANSPORTATION

Federal Aviation Administration

14 CFR Part 39

[Docket No. FAA-2008-0835; Directorate Identifier 2008-SW-34-AD; Amendment 39-15684; AD 2008-20-05]

RIN 2120-AA64

Airworthiness Directives; MD Helicopters, Inc. Model 600N Helicopters

AGENCY: Federal Aviation Administration, DOT.

ACTION: Final rule; correction.

SUMMARY: This document corrects airworthiness directive (AD) 2008-20-05 which was published on October 10, 2008 (73 FR 60102) and applies to MD Helicopters, Inc. (MDHI) Model 600N helicopters. AD 2008-20-05 requires modifying the fuselage aft section, repetitively inspecting the tailboom attachment fittings, installing inspection holes and attachment bolt washers, modifying both access covers, and replacing broken attachment bolts. This document corrects the AD number that is incorrectly listed as 2008-20-08 on page 60104 of the AD.

DATES: The effective date of AD 2008-20-05 remains October 27, 2008.

FOR FURTHER INFORMATION CONTACT: Eric Schrieber, Aviation Safety Engineer, FAA, Los Angeles Aircraft Certification Office, Airframe Branch, 3960 Paramount Blvd., Lakewood, California 90712, telephone (562) 627-5348, fax (562) 627-5210.

SUPPLEMENTARY INFORMATION: Discussion: On September 25, 2008, we issued AD 2008-20-05 to amend 14 CFR part 39 to include an AD that applies to MDHI Model 600N helicopters. That AD requires modifying the fuselage aft section, repetitively inspecting the tailboom attachment fittings, installing inspection holes and attachment bolt washers, modifying both access covers, and replacing broken attachment bolts.

As published, AD 2008-20-05 contains an incorrect AD number (2008-20-08) in the regulatory text on page 60104 of the AD. The correct AD number is 2008-20-05.

No other part of the regulatory information has been changed; therefore, the AD is not republished in the Federal Register.

Correction of Publication

Accordingly, the publication on October 10, 2008 of Amendment 39-15684, AD 2008-20-05, Docket No. FAA-2008-0835, Directorate Identifier 2008-SW-34-AD (73 FR 60102), which is the subject of FR Doc. E8-23540, is corrected as follows:

§ 39.13 [Corrected]

On page 60104, in the second column, in the paragraph under § 39.13 [Amended], change “2008-20-08” to read “2008-20-05”.

Issued in Fort Worth, Texas, on November 14, 2008.
Scott A. Horn,
Acting Manager, Rotorcraft Directorate, Aircraft Certification Service.

[FR Doc. E8-28108 Filed 11-26-08; 8:45 am]

BILLING CODE 4910-13-P